DEPARTMENT OF THE INTERIOR

National Park Service

[NPS-WASO-NRSS-EQD-SSB- NPS0027445; PPAKWEARS2, PPMPRLE1Z.LS0000 (199); OMB Control Number 1024-0262]

Agency Information Collection Activities; Community Harvest Assessments for Alaskan National Parks, Preserves, and Monuments

AGENCY: National Park Service, Interior.

ACTION: Notice of information collection; request for comment.

SUMMARY: In accordance with the Paperwork Reduction Act of 1995, we, the National Park Service (NPS) are proposing to renew an information collection.

DATES: Interested persons are invited to submit comments on or before January 21, 2020.

ADDRESSES: Send your comments on this information collection request (ICR) by mail to Phadrea Ponds, Acting NPS Information Collection Clearance Officer, 1201 Oakridge Drive Fort Collins, CO 80525; or by email at phadrea_ponds@nps.gov; or by telephone at 970-267-7231. Please reference OMB Control Number 1024-0262 in the subject line of your comments.

FOR FURTHER INFORMATION CONTACT: To request additional information about this ICR, contact Phadrea Ponds, Acting NPS Information Collection Clearance Officer, 1201 Oakridge Drive Fort Collins, CO 80525; or by email at phadrea_ponds@nps.gov; or by telephone at 970-267-7231. Please reference OMB Control Number 1024-0262 in the subject line of your comments.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the NPS; (2) will this information be processed and used in a timely manner; (3) is the estimate of burden accurate; (4) how might the NPS enhance the quality, utility, and clarity of the information to be collected; and (5) how might the NPS minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: Under the provisions of The Alaska National Interest Lands Conservation Act (ANILCA), subsistence harvests by local rural residents are considered to be the priority consumptive use of park resources. This collection gathers information on subsistence harvest patterns and the impact of rural economy from resident zone communities associated with Alaskan parks, preserves, and monuments. The NPS is seeking an extension to continue to survey Alaska residents who customarily and traditionally engage in subsistence uses within a national park, preserve, or monument.

In 2017, the collection was reinstated and increased the scope of inquiry to include the following Alaskan National Parks, Preserves, and Monuments:

• Aniakchak National Monument (ANIA),

• Bering Land Bridge National Preserve (BELA),

• Cape Krusenstern National Monument (CAKR),

• Gates of the Arctic National Park and Preserve (GAAR),

• Kobuk Valley National Park (KOVA),

• Noatak National Preserve (NOAT),

• Wrangell-St. Elias National Park and Preserve (WRST) and

• Yukon-Charley Rivers National Preserve (YUCH).

This survey is conducted through in-person interviews. A facilitator collects information about harvests, uses, and sharing of subsistence resources. Search and harvest areas are also mapped over the course of the interview. The information from this collection will be used by the NPS, the Federal Subsistence Board, the State of Alaska, and local/regional advisory councils in making recommendations and informing decisions regarding seasons and harvest limits of fish, wildlife, and plants in the region which communities have customarily and traditionally used.

Title of Collection: Community Harvest Assessments for Alaskan National Parks, Preserves, and Monuments.

OMB Control Number: 1024-0262.

Form Number: None.

Type of Review: Extension of a currently approved collection.

Respondent's Obligation: Voluntary.

Frequency of Collection: One-time.

Total Estimated Annual Nonhour Burden Cost: None.

Activity | Estimated annual respondents | Estimated annual responses | Average completion time per response | Estimated annual burden hours *
Community Harvest Assessments for Alaskan National Parks, Preserves, and Monuments (all communities):
Individuals/Households | 1,140 | 1,140 | 1 Hour | 1,140
Community Harvest Assessments for Alaskan National Parks, Preserves, and Monuments (non-response script and survey):
Individuals/Households | 1,274 | 1,274 | 10 Minutes | 213
Totals: | 2,414 | 2,414 |  | 1,353
* Rounded.

An agency may not conduct or sponsor and a person is not required to respond to a collection of information unless it displays a currently valid OMB control number.

The authority for this action is the Paperwork Reduction Act of 1995 (44 U.S.C. 3501 et seq.).

Phadrea Ponds,
Acting, Information Collection Clearance Officer, National Park Service.

[FR Doc. 2019-25264 Filed 11-20-19; 8:45 am]

BILLING CODE 4312-52-P